DEPARTMENT OF COMMERCE

Foreign-Trade Zones Board

[B-86-2012]

Foreign-Trade Zone 38—Spartanburg County, South Carolina; Authorization of Production Activity; ZF Transmissions Gray Court, LLC (Automatic Transmissions); Gray Court, South Carolina

On November 8, 2012, the South Carolina State Ports Authority, grantee of FTZ 38, submitted a notification of proposed production activity to the Foreign-Trade Zones (FTZ) Board on behalf of ZF Transmissions Gray Court, LLC, within FTZ 38—Site 20, in Gray Court, South Carolina.

The notification was processed in accordance with the regulations of the FTZ Board (15 CFR part 400), including notice in the Federal Register inviting public comment (77 FR 70992-70993, 11-28-2012). The FTZ Board has determined that no further review of the activity is warranted at this time. The production activity described in the notification is authorized, subject to the FTZ Act and the Board's regulations, including Section 400.14.

Dated: March 8, 2013.
Andrew McGilvray,
Executive Secretary.

[FR Doc. 2013-05924 Filed 3-13-13; 8:45 am]

BILLING CODE P